DEPARTMENT OF ENERGY

Federal Energy Regulatory Commission

[Docket No. RP02-354-000]

Gas Research Institute; Notice of Annual Application

June 7, 2002.

Take notice that on June 3, 2002, the Gas Research Institute (GRI) filed an application requesting advance approval of its 2033-2007 Five-Year Research, Development and Demonstration (RD&D) Plan, and the 2003 RD&D Program and the funding of its RD&D activities for 2003, pursuant to Section 154.401 of the Commission's April 29, 1998 Order Approving Settlement [83 FERC ¶61,093 (1998)].

In its application, GRI states that all aspects of its proposed 2003 Program are consistent with the current Settlement. GRI states that proposed budgets are identical to those approved as part of the Settlement. GRI proposes to incur contract obligations of $60.0 million in 2003. Consistent with the Commission's April 29, 1998 Order Approving Settlement, GRI states that all $60.0 million of the 2003 contract obligations will be for Core Projects. GRI's application seeks to collect funds to support its RD&D program through jurisdictional rates and charges during the twelve months ending December 31, 2003.

Consistent with the Commission's April 29, 1998 Order Approving Settlement, GRI proposes to fund the 2003 RD&D program by the use of the following surcharges: (1) a demand/reservation surcharge of 5.0 cents per Dth per Month for “high load factor customers”; (2) a demand/reservation surcharge of 3.1 cents per Dth per Month for “low load factor customs”' (3) a volumetric commodity/usage surcharge of 0.4 cents; and (4) a special “small customer”; (3) a volumetric commodity/usage surcharge of 0.4 cents; and (4) a special “small customer” surcharge of 0.6 cents per Dth. All of the proposed 2003 surcharges represent decreases from corresponding current levels.

The Commission Staff will analyze GRI's application and prepare a Commission Staff Report. This Staff Report will be served on all parties and field with the Commission as a public document on August 2, 2002. Comments on the Staff Report and GRI's application by all parties, except GRI, must be filed with the Commission on or before August 16, 2002. GRI's reply comments must be filed with the Commission on or before August 16, 2002. GRI's reply comments must be filed on or before August 23, 2002.

Any person desiring to be heard or to protest GRI's application, except for GRI members and state regulatory commissions, who are automatically permitted to participate in the instant proceedings as intervenors, should file a motion to intervene of protest with the Federal Energy Regulatory Commission, 888 First Street, NE., Washington, DC 20426, in accordance with the Commission's Rules and Regulations. All such motions or protests should be filed on or before June 21, 2002. All comments and protest will be considered by the Commission in determining the appropriate action to be taken, but will not serve to make protestants parties to this proceeding. Any person wishing to become a party, other than a GRI member or a state regulatory commission, must file a motion to intervene. Copies of this filing are on file with the Commission and are available for public inspection. This filing may also be viewed on the web at http://www.ferc.gov using the “RIMS” link, select “Docket #” and follow the instructions (call 202-208-222 for assistance). Comments, protests and interventions may be filed electronically via the Internet in lieu of paper. See, 18 CFR 385.2001(a)(1)(iii) and the instructions on the Commission's web site under the “e-Filing” link.

Linwood A. Watson, Jr.
Deputy Secretary.

[FR Doc. 02-14934 Filed 6-12-02; 8:45 am]

BILLING CODE 6717-01-M